DEPARTMENT OF DEFENSE

Department of the Army, Corps of Engineers

Intent To Prepare a Draft Table Rock Lake Shoreline Management Plan Report and Environmental Impact Statement To Investigate Potential Significant Impacts, Either Positive or Negative, to Table Rock Lakes' Authorized Purposes of Flood Risk Management, Hydropower, Water Supply, Recreation, and Fish and Wildlife

AGENCY: Department of the Army, U.S. Army Corps of Engineers, DOD.

ACTION: Notice of Intent.

SUMMARY: The Environmental Impact Statement (EIS) is being prepared pursuant to the National Environmental Policy Act (NEPA), Council on Environmental Quality (CEQ) regulations (40 CFR, 1500-1517), and the USACE implementing regulation, Policy and Procedures for Implementing NEPA, Engineer Regulation (ER) 200-2-2 (1988). The study is being conducted in accordance with the requirements of 36 CFR 327.30, dated 27 July 1990 and ER 1130-2-406, dated 31 October 1990. The EIS will evaluate potential impacts (beneficial and adverse) to socioeconomic conditions, cultural and ecological resources, public access and safety, impacts to lake use, public parks and recreation, aesthetics, infrastructure, lake water quality, terrestrial and aquatic fish and wildlife habitats, federally-listed threatened and endangered species, and cumulative impacts associated with past, current, and reasonably foreseeable future actions at Table Rock Lake.

ADDRESSES: Submit written comments to Mr. Bob Singleton, Biologist, U.S. Army Corps of Engineers, Planning and Environmental Division, Environmental Branch, Little Rock District, P.O. Box 867, Little Rock, AR 72203-0867. Comments will be accepted through December 31, 2015.

FOR FURTHER INFORMATION CONTACT: For questions or comments regarding the Draft Table Rock Lake Shoreline Management Plan EIS, please contact Mr. Bob Singleton, (501) 324-5018 or email: Robert.Singleton@usace.army.mil.

SUPPLEMENTARY INFORMATION: 1. Table Rock Lake: Table Rock Lake is a multiple purpose water resource development project primarily for flood risk management and hydropower generation. Additional purposes include providing water storage to supply a fish hatchery (Pub. L. 86-93 of 1959); recreation and fish and wildlife mitigation, to the extent that those additional purposes do not adversely affect flood risk management, power generation, or other authorized purposes of the project (Flood Control Act of 1944 as amended in 1946, 1954, 1962, 1965 and 1968 and the Water Resources Act of 1996). Table Rock Lake is a major component of a comprehensive plan for water resource development in the White River Basin of Missouri and Arkansas. Additional beneficial uses include increased power output of downstream power stations resulting from the regulated flow from the Table Rock Lake project.

2. Study Location: The Table Rock Lake Civil Works project on the White River is bordered by two States: southwest Missouri (Stone, Taney, and Barry counties) and northwest Arkansas (Boone and Carroll counties). The total area contained in the Table Rock project, including both land and water surface, consists of 62,207 acres. Of this total, 2,576 acres are in flowage easement. The region is characterized by narrow ridges between deeply cut valleys that are well wooded with deciduous trees and scattered pine and cedar. When the lake is at the top of the conservation pool, the water area comprises 42,560 acres and 742 miles of shoreline within fee. The shoreline is irregular with topography ranging from steep bluffs to gentle slopes.

3. Study History: The original Table Rock Lake Shoreline Management Plan (also known as the Lakeshore Management Plan) was approved in April 1976. The SMP was reviewed, updated, and approved by the Division Engineer in May 1982. The SMP was supplemented in January 1988 and April 1989. The SMP was once again reviewed, updated, and approved by the Division Engineer in July 1990. The SMP was supplemented in August 1991 and in September 1992, the official conversion of a Lakeshore Management Plan to a SMP was approved by the District Engineer. The last review, update, and approval process of the Table Rock Lake SMP took place in March 1996.

4. Scoping/Public Involvement. The Public Scoping process provides information about the study to the public, serves as a mechanism to solicit agency and public input on alternatives and issues of concern, and ensures full and open participation in Scoping and review of the Draft EIS. Comments received as a result of this notice and news releases will be used to assist the preparers in identifying potential impacts to the quality of the human or natural environment. The Corps invites other Federal agencies, Native American Tribes, State and local agencies and officials, private organizations, and interested individuals to participate in the Scoping process by forwarding written comments to (see ADDRESSES). Interested parties may also request to be included on the mailing list for public distribution of announcements and documents.

5. Issues/Alternatives: The EIS will evaluate effects from a range of alternatives developed to address potential environmental concerns of the area. Anticipated significant issues to be addressed in the EIS include impacts on: (1) hydropower, (2) flooding, (3) recreation, (4) water supply, (5) fish and wildlife resources and habitats, and (6), other impacts identified by the public, agencies or USACE studies.

6. Availability of the Draft EIS: The Draft Environmental Impact Statement is anticipated to be available for public review in the spring of 2017, subject to the receipt of Federal funding.

Courtney W. Paul,
Colonel, US Army, District Engineer.

[FR Doc. 2015-30155 Filed 11-27-15; 8:45 am]

BILLING CODE 3720-58-P